DEPARTMENT OF TRANSPORTATION

Federal Aviation Administration

Proposed Advisory Circular 23-24, Airworthiness Compliance Checklists for Common Part 23 Supplemental Type Certificate (STC) Projects

AGENCY: Federal Aviation Administration (FAA), DOT.

ACTION: Notice of availability of proposed advisory circular (AC) and request for comments.

SUMMARY: This notice announces the availability of and requests comments on the proposed advisory circular, AC 23-24. This guidance sets forth one method that may be used to generate compliance checklists for some 14 CFR, part 23 Supplemental Type Certificate (STC) airplane projects. Guidance is provided for changes to the airplane autopilot, engine, propeller, auxiliary fuel tank, and gross weight. These compliance checklists may be used to fulfill some of the requirements for a Certification Plan as part of an STC project.

DATES: Comments must be received on or before April 29, 2005.

ADDRESSES: Send all comments on the proposed AC to: Mr. Mark Orr, Small Airplane Directorate, Standards Office (ACE-110), Aircraft Certification Service, Federal Aviation Administration, 901 Locust Street, Room 301, Kansas City, MO 64106.

FOR FURTHER INFORMATION CONTACT: Mr. Mark S. Orr, Standards Office, Small Airplane Directorate, Aircraft Certification Service, Kansas City, Missouri 64106, telephone: (816) 329-4151; facsimile: (816) 329-4090; e-mail: mark.orr@faa.gov.

SUPPLEMENTARY INFORMATION:

Discussion

The checklists generated using the information in the proposed AC are meant to complement the guidance in the Guides for Certification of Part 23 Airplanes (ACs 23-8B, 23-16A, 23-17A, and 23-19) and other more project-specific guidance. The material in the proposed AC describes an acceptable means, but not the only means, of compliance with 14 CFR part 23. The material in the proposed AC is not mandatory or regulatory in nature and does not constitute a regulation. Owners/operators of part 23 airplanes applying for an STC change covered in this proposed AC may use this material as a reference to create a project-specific compliance checklist. This material is also intended to be a reference for Federal Aviation Administration (FAA) engineers working on STC projects for these common changes.

Comments Invited

You may obtain a copy of this proposed AC by contacting the person named above under FOR FURTHER INFORMATION CONTACT. A copy of this proposed AC will also be available on the Internet at http://www.airweb.faa.gov/AC.

We invite you to submit any written relevant data, views, or arguments regarding the proposed AC. Send your comments to the address listed under ADDRESSES. Include “Comments to proposed AC 23-24” at the beginning of your comments. Comments sent by facsimile must also contain “Comments to proposed AC 23-24” in the subject line. You may send comments electronically to: mark.orr@faa.gov. Comments sent electronically must contain “Comments to proposed AC 23-24” in the subject line. If you send comments electronically as attached electronic files, the files must be formatted in Microsoft Word 97 for Windows or ASCII text. Your comments must contain what specific change you are seeking to the proposed AC and include justification (for example, reasons or data) for each request.

We will consider all communications received on or before the closing date for comments before issuing the final AC. The proposed AC and comments received may be inspected at the Standards Office (ACE-110), 901 Locust, Room 301, Kansas City, Missouri, between the hours of 8:30 a.m. and 4 p.m. weekdays, except Federal holidays by making an appointment in advance with the person listed under FOR FURTHER INFORMATION CONTACT.

Issued in Kansas City, Missouri on February 17, 2005.
David R. Showers,
Acting Manager, Small Airplane Directorate, Aircraft Certification Service.

[FR Doc. 05-3766 Filed 2-25-05; 8:45 am]

BILLING CODE 4910-13-P